NATIONAL SCIENCE FOUNDATION

Advisory Panel for Developmental Mechanisms; Notice of Meeting

In accordance with the Federal Advisory Committee Act (Pub. L. 92-463, as amended), the National Science foundation (NSF) announces the following meeting.

Name: Advisory Panel for Developmental Mechanisms (1141).

Date and Time: April 18-20, 2001; 8:30 a.m.-5 p.m.

Place: NSF, Room 360, 4201 Wilson Blvd., Arlington, VA.

Type of Meeting: Part-open.

Contact Persons: Dr. Judith Plesset and Dr. Susan Singer, Program Directors, Developmental Mechanism, Division of Integrative Biology and Neuroscience, Suite 685, National Science Foundation, 4201 Wilson Boulevard, Arlington, VA 22230, Telephone: (703) 292-8417.

Purpose of Meeting: To provide advice and recommendations concerning proposals submitted to NSF for financial support.

Minutes: May be obtained from the contact person listed above.

Agenda:

Open Session: April 29th, 2001; 10 a.m. to 11 a.m.—discussion on research trends, opportunities and assessment procedures in Integrative Biology and Neuroscience with Dr. Mary Clutter, Assistant Director, Directorate for Biological Sciences.

Closed Session: April 18th, 2001, 8:30 a.m. to 6 p.m.; April 19th, 2001, 8:30 a.m. to 6 p.m.; April 20th, 2001, 8:30 a.m. to 10 a.m. and 11 a.m. to 5 p.m. To review and evaluate the Developmental Mechanisms proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: February 5, 2001.
Karen J. York,
Committee Management Officer.

[FR Doc. 01-3334 Filed 2-8-01; 8:45 am]

BILLING CODE 7555-01-M